DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: Population Sciences and Epidemiology Integrated Review Group; Analytics and Statistics for Population Research Panel A Study Section.

Date: July 9-10, 2025.

Time: 10:00 a.m. to 6:00 p.m.

Agenda: To review and evaluate grant applications.

Address: National Institutes of Health, Rockledge II, 6701 Rockledge Drive, Bethesda, MD 20892.

Meeting Format: Virtual Meeting.

Contact Person: Emily Megan Kilroy, Ph.D., Scientific Review Officer, Center for Scientific Review, National Institutes of Health, 6701 Rockledge Dr., Bethesda, MD 20892, (301) 594-0813, kilroyem@csr.nih.gov.

Name of Committee: Center for Scientific Review Special Emphasis Panel; RFA: T1 Translational Aging Research UG3.

Date: July 9, 2025

Time: 11:00 a.m. to 7:00 p.m.

Agenda: To review and evaluate grant applications.

Address: National Institutes of Health, Rockledge II, 6701 Rockledge Drive, Bethesda, MD 20892.

Meeting Format: Virtual Meeting.

Contact Person: Maurizio Grimaldi, CL PHARM, Ph.D., MD, Scientific Review Officer, SRB, Scientific Review Branch, NIA (National Institute on Aging), 5601 Fishers Lane, Suite 8B, Rockville, MD 20892, (301) 496-9374, maurizio.grimaldi@nih.gov.

Name of Committee: Center for Scientific Review Special Emphasis Panel; U01 Clinical Trial Review.

Date: July 9, 2025

Time: 1:00 p.m. to 4:00 p.m.

Agenda: To review and evaluate grant applications.

Address: National Institutes of Health, Rockledge II, 6701 Rockledge Drive, Bethesda, MD 20892.

Meeting Format: Virtual Meeting.

Contact Person: Rekha Dhanwani, Ph.D., Scientific Review Officer, Scientific Review Program, DEA/NIAID/NIH/DHHS, 5601 Fishers Lane, MSC-9823, Rockville, MD 20892, (240) 627-3076, rekha.dhanwani@nih.gov.

Name of Committee: Center for Scientific Review Special Emphasis Panel; PAR/RFA Panel: Summer Research Education and Career Development Awards in Social and Community Influences Research.

Date: July 10, 2025.

Time: 8:00 a.m. to 6:00 p.m.

Agenda: To review and evaluate grant applications.

Address: National Institutes of Health, Rockledge II, 6701 Rockledge Drive, Bethesda, MD 20892.

Meeting Format: Virtual Meeting.

Contact Person: Deborah Ismond, Ph.D., Scientific Review Officer, Office of Extramural Research Activities, NIMHD, National Institutes of Health, 6707 Democracy Blvd., Room 800, Bethesda, MD 20892, 301.594.2704, ismonddr@mail.nih.gov.

Name of Committee: Center for Scientific Review Special Emphasis Panel; PAR Panel: Metabolic, Cerebrovascular, Environmental, and Sleep Factors in Alzheimer's Disease and Related Dementias (ADRD).

Date: July 10-11, 2025.

Time: 9:00 a.m. to 8:00 p.m.

Agenda: To review and evaluate grant applications.

Address: National Institutes of Health, Rockledge II, 6701 Rockledge Drive, Bethesda, MD 20892.

Meeting Format: Virtual Meeting.

Contact Person: Jennifer Kielczewski, Ph.D., Scientific Review Officer, Center for Scientific Review, National Institutes of Health, 6701 Rockledge Drive, Bethesda, MD 20892, (301) 435-1042, jennifer.kielczewski@nih.gov.

Name of Committee: Center for Scientific Review Special Emphasis Panel; Topics in Clinical Data Management, Analysis, Informatics and Digital Health B.

Date: July 14-15, 2025.

Time: 9:00 a.m. to 6:00 p.m.

Agenda: To review and evaluate grant applications.

Address: National Institutes of Health, Rockledge II, 6701 Rockledge Drive, Bethesda, MD 20892.

Meeting Format: Virtual Meeting.

Contact Person: Siddhartha Shankar Roy, Ph.D., Scientific Review Officer, Center for Scientific Review, National Institutes of Health, 6701 Rockledge Drive, Bethesda, MD 20892, (706) 373-3901, royss@csr.nih.gov

Name of Committee: Center for Scientific Review Special Emphasis Panel; RFA-HG-25-007: Informatics Tools for the Pangenome.

Date: July 14, 2025.

Time: 9:00 a.m. to 6:00 p.m.

Agenda: To review and evaluate grant applications.

Address: National Institutes of Health, Rockledge II, 6701 Rockledge Drive, Bethesda, MD 20892.

Meeting Format: Virtual Meeting.

Contact Person: Marcienne Wright, Ph.D., Scientific Review Officer, National Institutes of General Medical Sciences, Scientific Review Branch, 45 Center Drive, Bethesda, MD 20892, (301) 827-7635, marci.wright@nih.gov.

Name of Committee: Center for Scientific Review Special Emphasis Panel; RFA-NS-22-022: Helping to End Addiction Long-Term (HEAL) K99.

Date: July 14, 2025.

Time: 10:00 a.m. to 5:00 p.m.

Agenda: To review and evaluate grant applications.

Address: National Institutes of Health, Rockledge II, 6701 Rockledge Drive, Bethesda, MD 20892.

Meeting Format: Virtual Meeting.

Contact Person: Devaiah Nanjappa Ballachanda, Ph.D., Scientific Review Officer, Center for Scientific Review, National Institutes of Health, 6701 Rockledge Drive, Room 801F, Bethesda, MD 20892, (301) 480-0576, ballachandad@mail.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 9, 2025.
Sterlyn H. Gibson,
Program Specialist, Office of Federal Advisory Committee Policy.

[FR Doc. 2025-10771 Filed 6-12-25; 8:45 am]

BILLING CODE 4140-01-P